DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Evaluation of the CSAP Underage Drinking Prevention Public Education Program

—New—SAMHSA's Center for Substance Abuse Prevention (CSAP) is launching the Underage Drinking Prevention Public Education Program, which is a public education program designed to educate 9-13 year old children about the harms of alcohol use and to support parents/caregivers as they monitor and participate in their children's activities. The ultimate goal of the program is to reduce underage alcohol use among young people. Elements of the program include media messages (such as public service announcements on television and radio) and education of children and their adult caregivers through materials and community events.

To determine the likely effectiveness of the program, CSAP is planning to conduct an evaluation. The evaluation will determine whether the program can produce measurable change in communities that receive training and technical assistance on implementing the program, plus funds to customize materials for those communities. The evaluation will assess change in knowledge, attitudes, and behavior among those exposed to the program. Ten treatment and five comparison communities will be selected for study. Data for the evaluation will be collected through a baseline telephone survey and through four follow-up telephone surveys of adult-child dyads. The estimated response burden is shown in the table that follows.

Data collection | Number of respondents | Frequency of response | Hours per response | Total response burden (hrs.)
Baseline telephone survey of adult-child dyads | 12,600 adults | 1 | 0.2 | 2,520
| 3,780 adults ᵃ | 1 | 0.2 | 756
| 12,600 youth | 1 | 0.2 | 2,520
Parent-only interviews ᵇ | 630 adults | 1 | 0.2 | 126
Years 1-4 follow-up telephone survey of adult-child dyads | 12,000 adults | 4 | 0.2 | 9,600
| 3,600 adults ᵃ | 4 | 0.2 | 2,880
| 12,000 youth | 4 | 0.2 | 9,600
Parent-only interviews | 600 adults | 4 | 0.2 | 480
State department of education | 10 | 1 | 0.25 | 3
Local school district | 15 | 1 | 0.25 | 4
School principal | 60 | 1 | 0.25 | 15
School contact | 60 | 2 | 0.5 | 60
Total | 25,345 |  |  | 28,564
4-yr. annual average | 25,236 |  |  | 7,141
ᵃ The parent interview is 12 minutes long and the child interview is 12 minutes long. The burden estimates assume that 30% of parents interviewed stay on the telephone to monitor the child's interview and that the remainder of parents do not.
ᵇ This number represents an estimated 5% of adult respondents who complete the parent interview but decline to have the child interviewed.

Written comments and recommendations concerning the proposed information collection should be sent within 30 days of this notice to: Allison Herron Eydt, Human Resources and Housing Branch, Office of Management and Budget, New Executive Office Building, Room 10235, Washington, DC 20503.

Dated: September 23, 2002.
Richard Kopanda,
Executive Officer, SAMHSA.

[FR Doc. 02-24580 Filed 9-26-02; 8:45 am]

BILLING CODE 4162-20-P